DEPARTMENT OF COMMERCE

U.S. Census Bureau

Proposed Information Collection; Comment Request; Report of Building or Zoning Permits Issued for New Privately-Owned Housing Units (Building Permits Survey)

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before August 24, 2015.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed Raemeka Mayo, U.S. Census Bureau, MCD, CENHQ Room 7K181, 4600 Silver Hill Road, Washington, DC 20233, telephone (301) 763-4688 (or via the Internet at Raemeka.M.Mayo@census.gov).

SUPPLEMENTARY INFORMATION:

I. Abstract

The Census Bureau plans to request a three-year extension of a currently approved collection of the Form C-404, Building Permits Survey. The Census Bureau produces statistics used to monitor activity in the large and dynamic construction industry. Given the importance of this industry, several of the statistical series are key economic indicators. Two such series are (a) Housing Units Authorized by Building Permits and (b) Housing Starts. Both are based on data from samples of permit-issuing places. These statistics help state and local governments and the Federal Government, as well as private industry, to analyze the housing and construction industry sector of the economy.

The Census Bureau uses Form C-404 to collect information on changes to the geographic coverage of the permit-issuing place, the number and valuation of new residential housing units authorized by building permits, and additional information on residential permits valued at $1M or more. The form is titled “Report of Building or Zoning Permits Issued for New Privately-Owned Housing Units”. We use these data to estimate the number of housing units started, completed, and single-family houses sold, and to select samples for the Census Bureau's demographic surveys. These data are a component of the index of leading economic indicators. The Census Bureau uses the detailed geographic data collected from state and local officials on new residential construction authorized by building permits in the development of annual population estimates that are used by government agencies to allocate funding and other resources to local areas. Policymakers, planners, businesses, and others also use the detailed geographic data to monitor growth, plan for local services, and to develop production and marketing plans. The Building Permits Survey is the only source of statistics on residential construction for states and smaller geographic areas. Building permits are public records; therefore, the information is not subject to disclosure restrictions.

II. Method of Collection

Respondents may submit their completed form by mail, Internet or fax. Some respondents choose to email electronic files or mail printouts of permit information in lieu of returning the form.

The survey universe is comprised of approximately 19,875 local governments that issue building permits. Due to resource availability and time required to complete the data review and analysis, we collect data from some offices monthly and other offices annually. The Building Permits Survey monthly sample is also used as the control totals in the calculation of ratios used in the estimation methodology for the Survey of Construction. We collect this information monthly via Internet, mail or fax for about 7,675 permit-issuing jurisdictions and via electronic files or mailed printouts for about 400 jurisdictions. For the remaining jurisdictions, we collect this information annually via Internet, mail or fax for about 11,425 jurisdictions and via electronic files or mailed printouts for about 375 jurisdictions.

III. Data

OMB Control Number: 0607-0094.

Form Number(s): C-404.

Type of Review: Regular submission.

Affected Public: State and Local Governments.

Estimated Number of Respondents: 19,875.

Estimated Time per Response: 8 minutes for monthly respondents who report via Internet, mail or faxing the form, 23 minutes for annual respondents who report via Internet, mail or faxing the form and 3 minutes for monthly and annual respondents who send electronic files or mail printouts.

Estimated Total Annual Burden Hours: 16,918.

Estimated Total Annual Cost to Public: $0.

Respondent's Obligation: Voluntary.

Legal Authority: Title 13, United States Code, Sections 131 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental PRA Lead, Office of the Chief Information Officer.

[FR Doc. 2015-15543 Filed 6-24-15; 8:45 am]

BILLING CODE 3510-07-P